DEPARTMENT OF TRANSPORTATION

Federal Aviation Administration

14 CFR Part 39

[Docket No. 2002-NM-22-AD; Amendment 39-12693; AD 2002-06-15]

RIN 2120-AA64

Airworthiness Directives; Boeing Model 777-200 and -300 Series Airplanes

AGENCY: Federal Aviation Administration, DOT.

ACTION: Final rule; request for comments.

SUMMARY: This amendment adopts a new airworthiness directive (AD), applicable to certain Boeing Model 777-200 and -300 series airplanes. This action requires replacement of the switch guard on the switch used to control the passenger and/or therapeutic oxygen system with a new, improved switch guard. This action is necessary to prevent displacement of the passenger/therapeutic oxygen switch, which could result in the unavailability of supplemental/therapeutic oxygen and possible incapacitation of passengers during flight. This action is intended to address the identified unsafe condition.

DATES: Effective April 17, 2002.

The incorporation by reference of certain publications listed in the regulations is approved by the Director of the Federal Register as of April 17, 2002.

Comments for inclusion in the Rules Docket must be received on or before June 3, 2002.

ADDRESSES: Submit comments in triplicate to the Federal Aviation Administration (FAA), Transport Airplane Directorate, ANM-114, Attention: Rules Docket No. 2002-NM-22-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-22-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Susan Letcher, Aerospace Engineer, Systems and Equipment Branch, ANM-130S, FAA, Seattle Aircraft Certification Office, 1601 Lind Avenue, SW., Renton, Washington 98055-4056; telephone (425) 227-2670; fax (425) 227-1181.

SUPPLEMENTARY INFORMATION: The airplane manufacturer has advised the FAA that the switch guard on the three-position momentary switch used to control the gaseous passenger/theraputic oxygen system is defective on certain Boeing Model 777-200 and -300 series airplanes. Each airplane is equipped with one switch if the airplane oxygen system is only equipped with passenger oxygen, or two switches if the oxygen system includes the optional therapeutic oxygen. The switch or switches are located on the P5 panel of the flight deck and are designed to stay at the centered “NORMAL” position, but can be toggled to the “RESET” or “ON” position. Each switch is prevented from inadvertent toggling out of the “NORMAL” position by a protective guard. The manufacturer has advised us that when the protective guard is in place, the switch can be deflected slightly and put into a continuous “RESET” mode, due to a defective wire hoop installed on the switch guard. If the passenger or therapeutic oxygen switch are in “RESET” mode, and the passenger oxygen masks are deployed, the oxygen flow control units which regulate the flow of oxygen from the supply cylinders into the passenger masks may not open to deliver supplemental oxygen to the passengers. This condition, if not corrected, could result in possible incapacitation of passengers during flight.

Explanation of Relevant Service Information

The FAA has reviewed and approved Boeing Alert Service Bulletin 777-35A0010, dated October 4, 2001, which describes procedures for replacement of the switch guard on the switch used to control the passenger and/or therapeutic oxygen module assemblies with a new, improved switch guard, and changing the part number on the module assembly. The service bulletin also describes procedures for doing a functional test if the module assemblies are removed and the wiring is disconnected before replacing the switch guard. Accomplishment of the actions specified in the service bulletin is intended to adequately address the identified unsafe condition.

Explanation of Requirements of the Rule

Since an unsafe condition has been identified that is likely to exist or develop on other airplanes of the same type design, this AD is being issued to prevent displacement of the passenger/therapeutic oxygen switch, which could result in the unavailability of supplemental/therapeutic oxygen and possible incapacitation of passengers during flight. This AD requires replacement of the switch guard on the switch used to control the passenger and/or therapeutic oxygen module assemblies with a new, improved switch guard. The actions are required to be accomplished in accordance with the service bulletin described previously, except as discussed below.

Difference Between This AD and the Alert Service Bulletin

The service bulletin recommends accomplishment of the actions as soon as manpower and materials are available, but the FAA has determined that a 90-day compliance time is necessary to address the identified unsafe condition in a timely manner. In developing an appropriate compliance time for this AD, the FAA considered not only the manufacturer's recommendation, but the degree of urgency associated with addressing the subject unsafe condition, the average utilization of the affected fleet, and the time necessary to perform the actions. In light of all of these factors, the FAA finds a 90-day compliance time for completion of the actions to be warranted, in that it represents an appropriate interval of time allowable for affected airplanes to continue to operate without compromising safety.

Cost Impact

None of the Model 777-200 and -300 series airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required actions, at an average labor rate of $60 per work hour. Based on these figures, the cost impact of this AD would be $60 per airplane.

Determination of Rule's Effective Date

Since this AD action does not affect any airplane that is currently on the U.S. Register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-22-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-06-15 Boeing: Amendment 39-12693. Docket 2002-NM-22-AD.

Applicability: Model 777-200 and -300 series airplanes, as listed in Boeing Alert Service Bulletin 777-35A0010, dated October 4, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent displacement of the passenger/therapeutic oxygen switch, which could result in the unavailability of supplemental/therapeutic oxygen and possible incapacitation of passengers during flight, accomplish the following:

Replacement

(a) Within 90 days after the effective date of this AD: Replace the switch guard on the switch used to control the passenger and/or therapeutic oxygen module assemblies, as applicable (including changing the part number on the module assembly, or a functional test, as applicable), with a new, improved switch guard per Figure 1 or Figure 2, as applicable, of the Accomplishment Instructions of Boeing Alert Service Bulletin 777-35A0010, dated October 4, 2001.

Spares

(b) As of the effective date of this AD, no one may install on any airplane a switch guard that has a part number listed in the “Existing Part Number” column of Paragraph 2.E. of Boeing Alert Service Bulletin 777-35A0010, dated October 4, 2001.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 777-35A0010, dated October 4, 2001. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on April 17, 2002.

Issued in Renton, Washington, on March 21, 2002.
Kalene C. Yanamura,
Acting Manager, Transport Airplane Directorate, Aircraft Certification Service.

[FR Doc. 02-7414 Filed 4-1-02; 8:45 am]

BILLING CODE 4910-13-P